DEPARTMENT OF COMMERCE

National Oceanic and Atmospheric Administration

50 CFR Part 660

[I.D. 051503A]

Western Pacific Fishery Management Council; Public Meetings

AGENCY: National Marine Fisheries Service (NMFS), National Oceanic and Atmospheric Administration (NOAA), Commerce.

ACTION: Notice of public meetings and hearings.

SUMMARY: The Western Pacific Fishery Management Council (Council) Advisory Panels (APs) will meet on June 6 and 7, 2003, and the Council will hold its 118th meeting June 10 through 13, 2003, in Honolulu, HI. (see SUPPLEMENTARY INFORMATION for specific times, dates, and agenda items).

ADDRESSES: The AP meetings will be held at the Council Office Conference Room, 1164 Bishop St., Suite 1400, Honolulu, HI; telephone: 808 522-8220. The Council meeting will be held at the Ala Moana Hotel, 410 Atkinson Drive, Honolulu, HI; telephone: 808-955-4811.

FOR FURTHER INFORMATION CONTACT: Kitty M. Simonds, Executive Director; telephone: 808-522-8220.

SUPPLEMENTARY INFORMATION:

Dates and Times

APs

The Commercial, Recreational, Subsistence/Indigenous and Ecosystem and Habitat sub-panels will meet jointly on Friday, June 6, 2003, from 8:30 a.m. to noon. Sub-panels will meet individually on Friday, June 6, 2003, from 1:30 p.m. to 5 p.m. and continue on Saturday, June 7, 2003, from 8:30 a.m. to 12 noon. Panels will meet in a plenary session from 1:30 p.m. to 5 p.m. on Saturday, June 7, to review recommendations. The agenda for the Advisory Panel meetings will include the items listed below. Public comment periods will be provided throughout the agenda. The order in which agenda items are addressed may change. The APs will meet as late as necessary to complete scheduled business.

Friday, June 6, 2003

1. Welcome and introductions

2. Status of previous advisory panel recommendations

3. Overview of Council decision-making process

4. Report from Island coordinators

5. Report on oceanic conditions (water temperature) surrounding the Commonwealth of the Northern Mariana Islands (CNMI) archipelago

6. Bottomfish fisheries

A. Guam offshore bottomfish management

B. Community demonstration project Mau Zone new entry criteria

C. Bottomfish overfishing/overfished control rule

D. Status of State of Hawaii bottomfish area closures

7. Marine protected areas (MPAs)

A. Establishing process for identifying reserve preservation areas in the Northwestern Hawaiian Islands (NWHI)

B. Use of MPAs in fishery management (e.g. Hawaii legislature initiative, California Channel Islands and longline closures)

C. Comments on reserve preservation areas in the NWHI.

8. Pelagic fisheries

A. Marlin management

B. Seabird mitigation

C. Sea Turtle mitigation

D. Growing use of personal fish aggregation devises

9. Small boat outreach issues

10. Report on finfish farming

11. Sub-panel break-out sessions to discuss issues and develop recommendations

Saturday, June 7, 2003

12. Sub-panel break-out sessions continue from 8:30 a.m. to 12 noon

13. Joint panel session reconvenes at 1:30 p.m. to review and finalize recommendations to the Council

Committee Meetings

The following Standing Committees of the Council will meet on June 10, 2003. Enforcement/Vessel Monitoring System (VMS) from 7:30 a.m. to 9 a.m.; Fishery Rights of Indigenous People from 7:30 a.m. to 9 a.m.; International Fisheries/Pelagics from 9 a.m. to 12 noon; Bottomfish from 9:00 a.m. to 12 noon; Ecosystem and Habitat from 1:30 p.m. to 3 p.m.; Crustaceans from 3 p.m. to 4:30 p.m.; and Executive/Budget and Program from 4:30 p.m. to 6 p.m.

In addition, the Council will hear recommendations from its APs, plan teams (PTs), scientific and statistical committees (SSCs), and other ad hoc groups. Public comment periods will be provided throughout the agenda. The order in which agenda items are addressed may change. The Council will meet as late as necessary to complete scheduled business.

Public Hearings

Public hearings will be held at 3:30 p.m. on Thursday, June 12, 2003, on the issues of management of marlin fisheries in Hawaii, and sea turtle conservation measures; at 11:30 a.m on Friday, June 13, 2003, on the issuance of community development program (CDP) Mau Zone bottomfish permits; and at 11:45 a.m. on Friday, June 13, 2003, on managing Guam's offshore bottomfish fishery. The agenda during the full Council meeting will include the items listed here.

Wednesday, June 11, 2003

1. Introductions

2. Approval of Agenda

3. Approval of 117th Meeting Minutes

4. Island Reports

A. American Samoa

B. Guam

C. Hawaii

D. CNMI

5. Regional constituent meeting with Bill Hogarth

6. Reports from Federal fishery agencies and organizations

A. Department of Commerce

(1) NMFS

(a) Pacific Islands Region

(b) Pacific Island Fisheries Science Center

(2) NOAA General Counsel, Pacific Islands Region

(3) National Ocean Service (NOS)

(a) National Marine Sanctuaries Program

(b) Pacific Services Center

B. Department of the Interior, U.S. Fish and Wildlife Service

C. U.S. State Department

7. Enforcement and VMS

A. U.S. Coast Guard activities

B. NMFS activities

C. Enforcement activities of local agencies

D. Status of violations

E. Report on enforcement meeting

(1) Outreach efforts

(2) American Samoa vessel monitoring system costs

(3) Electronic data reporting for Hawaii longline fleet

8. Precious coral fisheries: Status of industry

9. Crustaceans fisheries

A. Main Hawaiian Islands lobster stock assessment

B. Lobster tagging administrative report

Thursday, June 12, 2003

Guest speaker: David Pauley: “The Sea Around Us Project”

10. Pelagic fisheries

A. 2002 annual report

B. Report on American Samoa scientific data collection project

C. Report on Hawaii longline observer program

D. Report on phase two of chute trials for seabird conservation

E. Turtle conservation

(1) Implementation plan for conservation activities

(2) Fishery management alternatives (action item)

F. Marlin management (Action item)

G. Status of environmental impact statements (EISs)

(1) Supplemental pelagic EIS

(2) Main Hawaiian Islands turtle EIS

(3) Observer program EIS

(4) Turtle experiment EIS

H. Small boat outreach issues

I. International meetings and issues

(1) FAO Committee on Fisheries meeting

(2) NMFS turtle bycatch meeting

(3) 23rd turtle symposium

J. Public hearing on turtle conservation measures, and on management of marlin fisheries in Hawaii. Current turtle conservation measures for turtles which interact with the Hawaii-based longline fishery include a complete closure of all shallow set swordfish target longline fishing north of the equator and a seasonal closure in April and May each year of fishing grounds south of the Hawaiian Islands (from 15° N. lat. to the equator, and from 145° W. long. to 180° long.). The Council will consider whether to amend the Fishery Management Plan for the Pelagics Fishery of the Western Pacific Region (Pelagics FMP) and eliminate the southern April/May closure, or to modify the closure so that some areas would remain open during April and May. The Council will take public comment on modifications to the current management regime before taking further action on this issue.

The Council staff will consider a range of alternatives to address the fact that Pacific blue marlin landings are reportedly approaching maximum sustainable yield (MSY). Under new overfishing control rules recommended by the Council in its recent Sustainable Fisheries Act amendments, the Council will be required to reduce fishing mortality if overfishing is determined to be occurring, if the stock is determined to be overfished, or if the fishery is identified to be approaching an overfished condition. The degree to which fishing mortality by Council managed fisheries should be reduced is unclear given that these fisheries are a small percentage of Pacific-wide harvests. The Council will deliberate on the appropriate scale of response, and on the appropriate measures that it could adopt as a preferred alternative in an amendment to the Pelagics FMP, should this be required. The Council will take public comment on whether an amendment to the Pelagics FMP is necessary, and if so, what should be the preferred alternative in the amendment to the Pelagics FMP.

11. Indigenous fishery rights

A. Transmittal of Hawaii marine conservation plans

B. Community demonstration projects program

(1) Report on first solicitation

(2) Report on 2nd Solicitation

C. Mau Zone community development program (see bottomfish)

D. Annual Report to Congress

Friday, June 13, 2003

12. Ecosystems and Habitats

A. Report on the NOS NWHI Reserve Science Workshop

B. NMFS/Council NWHI symposium

C. Report from Council MPAs working group

D. Report on Secretariat of the Pacific Communities Coastal Fishery Management Meeting

E. Report on the U.S. Coral Reef Task Force Meeting

(1) February 26 Meeting

(2) Pacific coral reef fisheries management workshop

F. Status of the Coral Reef Ecosystem Fishery Management Plan

13. Bottomfish Fisheries

A. 2002 Annual report modules

B. Status of Main Hawaiian Island management program

C. Overfishing control rule/MSY

D. Report on NWHI bottomfish observer program

E. New entry criteria for Mau Zone community development program bottomfish permits (Action item)

F. Guam offshore bottomfish management (Action Item)

G. Public hearing on final action for Mau Zone community development program bottomfish permits and Guam offshore bottomfish management.

The Council will consider alternatives to take final action on a process for issuing NWHI Mau Zone bottomfish CDP permits. The three alternatives to be considered for selecting participants for the program include a random selection process (lottery), a weighted point system, and evaluation criteria. Each alternative will be used in concert with the Western Pacific community eligibility criteria as described in a Federal Register document published on April 16, 2002 (67 FR 18512). The Council's preferred alternative adopted by the Council at is 117th meeting in Saipan on February 12, 2003, was incorporated into the existing draft framework amendment “Measure to Establish Eligibility Criteria for New Entry into the Northwestern Hawaiian Islands Mau Zone Limited Access System”. The revised framework regulatory amendment incorporates the CDP permit issuance process to be presented and considered for final action by the Council at this meeting.

The Council will also consider alternatives and intends to take final action to manage Guam's offshore bottomfish fishery. The Council considered management alternatives at its 117th Council meeting in February 2003, and selected, as its preferred alternative, the option to prohibit targeting of bottomfish management unit species (BMUS) using vessels longer than 50 ft(15.24 m) that fish in Federal waters within 50 nautical miles from shore. In addition the preferred alternative would require Federal permits and reports for all vessels over 50 ft (15.24 m) in length that land BMUS in Guam.

Recent entry of larger vessels into the Guam bottomfish fishery has raised concerns regarding data collection gaps and resource status. These vessels harvest deep-slope species on offshore seamounts (or “banks”) in Federal waters, land the bottomfish at Guam's commercial port, and export the bottomfish to Japan. Neither the level of fishing effort nor the amount of bottomfish harvested, which is believed to have started in 2001, is known. Guam's creel survey does not cover fish landed at the commercial port and the exported fish are not sold through any establishments that participate in the voluntary sales ticket monitoring program. Onaga (Etelis coruscans) appears to be the primary species that is targeted.

The southern banks have been fished for many years by Guam-based bottomfish fishermen using smaller vessels that engage in a mix of subsistence, recreational, and small-scale commercial fishing, particularly in the summer months, when weather conditions tend to be calmer. Most of the vessels fishing on the southern banks target the shallow-water bottomfish complex, but some target the deep-water complex.

It is unknown at this time whether the new component of the fishery is having significant impacts on marine resources. Initial discussions with fishery managers and Guam's fishing community (through a public scoping meeting held on Guam August 8, 2002 and February 8, 2003), indicate that the catch of fish by this new component may lead to localized overfishing of the bank area.

14. Program Planning

A. Legislation updates

B. Status of Pacific Islands Region

C. Pacific fishery management coordinating consultation

D. Social science research planning

E. Exclusive Economic Zone data collection

F. Report on fishery data coordination committee meeting/WPacFIN

15. Administrative matters

A. Financial reports

B. Administrative reports

C. Upcoming meetings and workshops including the 119th Council meeting

D. AP, SSC, PT and Sea turtle working group appointments

16. Other business

Although non-emergency issues not contained in this agenda may come before the Council for discussion, those issues may not be the subject of formal Council action during this meeting. Council action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, 808-522-8220 (voice) or 808-522-8226 (fax), at least 5 days prior to the meeting date.

Authority: 1801 et seq.

Dated: May 16, 2003.
Richard W. Surdi,
Acting Director, Office of Sustainable Fisheries, National Marine Fisheries Service.

[FR Doc. 03-12743 Filed 5-21-03; 8:45 am]

BILLING CODE 3510-22-S